NATIONAL AERONAUTICS AND SPACE ADMINISTRATION

[Notice (02-098)]

NASA Advisory Council, Biological and Physical Research Advisory Committee Meeting

AGENCY: National Aeronautics and Space Administration.

ACTION: Notice of meeting.

SUMMARY: In accordance with the Federal Advisory Committee Act, Pub. L. 92-463, as amended, the National Aeronautics and Space Administration announces a meeting of the NASA Advisory Council, Biological and Physical Research Advisory Committee.

DATES: Thursday, August 29, 2002, 10 a.m. to 6 p.m.; and Friday, August 30, 2002, 8 a.m. to 12 Noon.

ADDRESSES: National Aeronautics and Space Administration, 300 E Street SW., Washington, DC 20546, Room 9H40.

FOR FURTHER INFORMATION CONTACT: Dr. Bradley Carpenter, Code UG, National Aeronautics and Space Administration, Washington, DC 20546, 202/358-0826.

SUPPLEMENTARY INFORMATION: The meeting will be open to the public up to the seating capacity of the room. The agenda for the meeting is as follows:

—Review Recommendations

—Program Overview

—Division Reports

—Status of International Space Station

—Research Prioritization Task Force

—Education and Outreach Policy

—Review of Committee Findings and Recommendations

It is imperative that the meeting be held on this date to accommodate the scheduling priorities of the key participants. Visitors will be requested to sign a visitor's register.

Dated: August 14, 2002.
Sylvia K. Kraemer,
Acting Advisory Committee Management Officer, National Aeronautics and Space Administration.

[FR Doc. 02-21011 Filed 8-16-02; 8:45 am]

BILLING CODE 7510-01-P